DEPARTMENT OF ENERGY

Federal Energy Regulatory Commission

[Project No. 12532-006]

Pine Creek Mine, LLC; Notice of Application Tendered for Filing With the Commission and Establishing Procedural Schedule for Licensing and Deadline for Submission of Final Amendments

Take notice that the following hydroelectric application has been filed with the Commission and is available for public inspection.

a. Type of Application: New Minor License.

b. Project No.: 12532-006.

c. Date Filed: February 12, 2016

d. Applicant: Pine Creek Mine, LLC

e. Name of Project: Pine Creek Mine Tunnel Hydroelectric Project

f. Location: The project is located at Pine Creek Mine adjacent to Morgan and Pine Creeks in Inyo County California. The project's mine access tunnel, mine plug, mine water storage cavity, penstock, generator, and most of its primary transmission line would be located under Federal land managed by the United States Forest Service.

g. Filed Pursuant to: Federal Power Act, 16 U.S.C. 791(a)-825(r)

h. Applicant Contacts: Craig N. Rossell, Member, Pine Creek Mine LLC, 228 West Bonita Avenue Claremont, California 91711, (909) 482-1000; Lynn Goodfellow, 9050 Pine Creek Road, Bishop, California 93514 (760) 387-2076.

i. FERC Contact: Joseph Hassell, (202) 502-8079 or joseph.hassell@ferc.gov.

j. This application is not ready for environmental analysis at this time.

k. The Project Description: The proposed Pine Creek Tunnel Hydroelectric Project would include: (1) The existing Pine Creek Mine site, mine entrance tunnels, mine shafts, and concrete plug; (2) an existing 30-foot-long steel pipe that runs through the concrete plug, to be used as a proposed penstock; (3) a proposed Pelton turbine generating unit located in the mine tunnel with a total installed capacity of 1.5 megawatts; (4) a proposed underground power line that would run approximately 2,500 feet from the generating unit to the mine portal; and (5) another proposed 60-foot-long transmission line from the mine portal to an existing substation on the mine site. The proposed project would have an average annual generation of 5.6 gigawatt-hours.

Pine Creek Mine, LLC would seal the mine entrance tunnel to store approximately 200 feet of groundwater in the existing mine works. The groundwater would be released at approximately the same rate at which it recharges the mine, which is about 10 cubic feet per second.

l. Locations of the Application: A copy of the application is available for review at the Commission in the Public Reference Room or may be viewed on the Commission's Web site at http://www.ferc.gov using the “eLibrary” link. Enter the docket number excluding the last three digits in the docket number field to access the document. For assistance, please contact FERC Online Support at FERCOnlineSupport@ferc.gov, (866) 208-3676 (toll free), or (202) 502-8659 (TTY). A copy is also available for inspection and reproduction at the address in item (h) above.

m. You may also register online at http://www.ferc.gov/docs-filing/esubscription.asp to be notified via email of new filings and issuances related to this or other pending projects. For assistance, contact FERC Online Support.

n. Procedural Schedule:

The application will be processed according to the following preliminary Hydro Licensing Schedule. Revisions to the schedule may be made as appropriate.

Milestone | Target date
Notice of Acceptance/Notice of Ready for Environmental Analysis | May 2016.
Filing of recommendations, preliminary terms and conditions, and fishway prescriptions | July 2016.
Commission issues Draft EA | January 2017.
Comments on Draft Environmental Assessment (EA) | March 2017.
Modified terms and conditions | May 2017.
Commission issues Final EA | August 2017.

o. Final amendments to the application must be filed with the Commission no later than 30 days from the issuance date of the notice of ready for environmental analysis.

Dated: February 25, 2016.
Nathaniel J. Davis, Sr.,
Deputy Secretary.

[FR Doc. 2016-04696 Filed 3-3-16; 8:45 am]

BILLING CODE 6717-01-P